FEDERAL COMMUNICATIONS COMMISSION

[OMB 3060-0853; FR ID 319353]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might further reduce the information collection burden for small business concerns with fewer than 25 employees. The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before December 29, 2025.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might further reduce the information collection burden for small business concerns with fewer than 25 employees.

OMB Control Number: 3060-0853.

Title: Certification by Administrative Authority to Billed Entity Compliance with the Children's internet Protection Act Form, FCC Form 479; Receipt of Service Confirmation and Certification of Compliance with the Children's internet Protection Act Form, FCC Form 486; and Funding Commitment and Adjustment Request Form, FCC Form 500.

Form Numbers: FCC Forms 479, 486 and 500.

Type of Review: Extension of a currently approved collection.

Respondents: Business or other for-profit, not-for-profit institutions, and state, local or tribal government.

Number of Respondents and Responses: 84,010 respondents, 94,203 responses.

Estimated Time per Response: 1 hour for FCC Form 479, 1 hour for FCC Form 486, 1 hour for FCC Form 500, 0.75 hours for maintaining and updating the internet Safety Policy, and 0.5 hours for recordkeeping requirements.

Frequency of Response: On occasion and annual reporting requirements and recordkeeping requirement.

Obligation to Respond: Required to obtain or retain benefits. Statutory authority for this information collection is contained in 47 U.S.C. 151, 154(i), 155, 201, 205, 214, 219, 220, 254, 303(r), 403, and 1302.

Total Annual Burden: 78,319 hours.

Total Annual Cost: No cost.

Needs and Uses: The Commission will submit this information collection to the Office of Management and Budget (OMB), which is an extension of a currently approved collection, to obtain a full three-year clearance from OMB. The requirements contained herein are necessary to implement the Congressional mandate for universal service. It provides the Commission and USAC with the necessary information to administer the E-Rate program, determine the amount of support entities seeking funding are eligible to receive, to determine if entities are complying with the Commission's rules, and to prevent waste, fraud, and abuse. The information will also allow the Commission to evaluate the extent to which the E-Rate program is meeting the statutory objectives specified in section 254 of the 1996 Act, the Commission's performance goals established in the 2014 First and Second E-Rate Orders, and to evaluate the need and feasibility for any future revisions to program rules.

FCC Form 486 was revised. On July 29, 2024 the Commission released a Report and Order and Further Notice of Proposed Rulemaking (WC Docket No. 21-31, FCC 24-76) (2024 Wi-Fi Hotspots Order); finding that the off-premises use of wireless internet services and the Wi-Fi hotspot devices needed to deliver the services; serves an educational purpose and are eligible for E-Rate support. The 2024 Wi-Fi Hotspots Order, 89 FR 67303, August 20, 2024, would have added the following certifications to the FCC Form 486: applicants that receive support for Wi-Fi hotspots and service for off-premises use uses the FCC Form 486 to certify that they have updated and publicly posted their “acceptable use policy (AUP)” consistent with the requirements in 47 CFR 54.516(f); the Wi-Fi hotspots and/or services the school, library, or consortium purchased using E-Rate support for off-premises use have been activated and made available to students, school staff, and/or library patrons; public notice of their availability has been provided; and the authorized person is not requesting reimbursement for Wi-Fi hotspots and/or services that have not been made available for distribution. On September 30, 2025, the Commission adopted the Hotspots Order on Reconsideration (WC Docket No. 21-31, FCC 25-62) (Hotspots Order on Reconsideration), that rescinds the 2024 Wi-Fi Hotspots Order, and removes the eligibility of E-Rate support for off-premises use of wireless mobile internet services and the Wi-Fi hotspot devices needed to deliver the services. The Wi-Fi hotspots and service-related rules, including the certifications, are no longer applicable and are removed from this information collection.

The hourly burden will increase by 10,044 hours for FCC Forms 479, 486, and 500. The public burden for the collection contained herein will increase to 78,319 burden hours.

FCC Form 486 “Receipt of Service Confirmation and Certification of Compliance with the Children's internet Protection Act.” After the Administrator reviews the funding request and commits to fund the eligible equipment and/or services requested, applicants use the FCC Form 486 to notify USAC of their service start dates for their funding requests. Universal service support will not be paid on an approved funding commitment prior to receipt of the FCC Form 486.

Billed entities also use the FCC Form 486 to certify compliance with the Children's internet Protection Act (CIPA), see 47 U.S.C. 254 (h)-(l), or qualification for a CIPA exemption when they seek discounts for category one services (i.e., internet access) and category two services (i.e., internal connections, managed internal broadband services, or basic maintenance of internal connections). When the billed entities are members of a larger consortia, they individually certify CIPA compliance by submitting the FCC Form 479 “Certification by Administrative Authority to Billed Entity of Compliance with Children's internet Protection Act” to the consortium leader. The consortium leader can then file the FCC Form 486 certifying CIPA compliance on behalf of the consortia. CIPA requires schools and libraries that have computers with internet access to certify that they have in place certain internet safety policies and technology protection measures to be eligible to receive program services under section 254(h) of the Act. See also 47 CFR 54.520. The FCC Form 486 is also a necessary prerequisite for invoicing and payment.

FCC Form 500 “Funding Commitment Adjustment Request.” The FCC Form 500 is used by E-Rate participants to make adjustments to previously filed forms, such as changing the contract expiration date noted on the FCC Form 471, changing the funding year service start date listed on the FCC Form 486, cancelling or reducing the amount of a funding request, and extending the service delivery deadline for non-recurring services.

All of the requirements contained in this information collection are necessary to implement the Congressional mandate for the E-Rate program and reimbursement process.

Federal Communications Commission.
Marlene Dortch,
Secretary, Office of the Secretary.

[FR Doc. 2025-21316 Filed 11-26-25; 8:45 am]

BILLING CODE 6712-01-P